DEPARTMENT OF COMMERCE

National Oceanic and Atmospheric Administration

RIN 0648-XF437

Gulf of Mexico Fishery Management Council; Public Meeting

AGENCY: National Marine Fisheries Service (NMFS), National Oceanic and Atmospheric Administration (NOAA), Commerce.

ACTION: Notice of a public meeting.

SUMMARY: The Gulf of Mexico Fishery Management Council (Council) will hold a four-day meeting to consider actions affecting the Gulf of Mexico fisheries in the exclusive economic zone (EEZ).

DATES: The meeting will be held on Monday, June 5 through Thursday, June 8, 2017.

ADDRESSES: The meeting will take place at the Naples Grande Beach Resort, located at 475 Seagate Drive, Naples, FL 34103; telephone: (239) 227-2182.

Council address: Gulf of Mexico Fishery Management Council, 2203 N. Lois Avenue, Suite 1100, Tampa, FL 33607; telephone: (813) 348-1630.

FOR FURTHER INFORMATION CONTACT: Douglas Gregory, Executive Director, Gulf of Mexico Fishery Management Council; telephone: (813) 348-1630.

SUPPLEMENTARY INFORMATION:

Agenda

Monday, June 5, 2017; 8 a.m.-5:15 p.m.

The meeting will begin at 8 a.m. in a CLOSED SESSION of the Full Council to discuss appointments to the Coastal Migratory Pelagics (CMP) and Red Drum Advisory Panel Appointments. The meeting is expected to open to the public around 8:30 a.m. The Administrative/Budget Committee will review and approve the Final 2017 Budget Funding Report; and review the MSA Legislation: H.R. 200 & H.R. 2023 Potential Impacts. The Sustainable Fisheries Committee will receive an overview on Barotrauma from Florida Sea Grant; review and discuss an options paper for a framework action that require possession of descending devices or venting tools on board vessels possessing reef fish and an options paper for carryover of unharvested quota; and any Scientific and Statistical (SSC) recommendations. The Gulf SEDAR Committee will review the meeting summary from the May 2017 Steering Committee; the assessment schedule; and a draft letter on NOAA's Updated Stock Assessment Improvement Plan. The Spiny Lobster Committee will review the Final Joint Spiny Lobster Regulatory Amendment 4. The Joint Coral/Habitat Protection & Restoration Committees will review and discuss an options paper for Coral Amendment 7. The Reef Fish Management Committee will review and discuss final action items: Amendment 44—Minimum Stock Size Threshold for Reef Fish Stocks, and Amendment 47—Vermilion Snapper Maximum Sustainable Yield (MSY) Proxy and Annual Catch Limit (ACL).

Tuesday, June 6, 2017; 8 a.m.-5 p.m.

The Reef Fish Management Committee will review and discuss taking final action on Abbreviated Framework Action to Modify the Number of Unrigged Hooks Carried Onboard Bottom Longline Vessels, Draft Framework Action to modify the ACT for Red Snapper Federal For-hire and Private Angler Components, and a Draft Framework Action for Greater Amberjack ACL and Management Measures; and receive a report from the Ad Hoc Red Snapper Private Angler Advisory Panel (AP) meeting. The committee review and discuss red snapper allocation issues, an options paper on Amendment 36B—Commercial Reef Fish Individual Fishing Quotas (IFQ) Modifications; Draft Amendment 41—Federal Charter-for-Hire Red Snapper Management; and Draft Amendment 42—Federal Reef Fish Headboat Management.

Question and Answer Session With SERO Regional Administrator, Roy Crabtree, Immediately Following Reef Fish Committee

Wednesday, June 7, 2017; 8:30 a.m.-5:30 p.m.

The Data Collection Committee will receive a presentation by Gulf states on procedures to estimate recreational landings; and review draft comments on Marine Recreational Information Program (MRIP) Strategic Plan.

The Full Council will convene mid-morning (approximately 10:15 a.m.) with a call to order, announcements, introductions; adoption of agenda; approval of minutes; and review of Exempt Fishing Permit (EFPs) Applications, if any. The Council will receive presentations from Florida Law Enforcement, the Coral Reef Conservation Program (CRCP), and a Summary of Anecdotal Data Efforts. After lunch, the Council will listen to public testimony from 1:30 p.m. until 5:30 p.m. on the following agenda items: Final Action on Amendment 44—Minimum Stock Size Threshold for Reef Fish Stocks; Final Action on Amendment 47—Vermilion Snapper MSY Proxy and ACL; Final Action on Abbreviated Framework Action to Modify the Number of Unrigged Hooks Carried Onboard Bottom Longline Vessels; Final Action on Joint Spiny Lobster Amendment 4 to Increase Spiny Lobster Annual Catch Limits and Triggers; and, open testimony on any Other Fishery Issues or Concerns.

Thursday, June 8, 2017; 8:30 a.m.-3:30 p.m.

The Council will receive reports from the following Management Committees: Reef Fish, Gulf SEDAR, Administrative/Budget, Spiny Lobster, Joint Coral/Habitat Protection & Restoration, Data Collection, and Sustainable Fisheries. The Council will announce the Advisory Panel Membership for the Red Drum and CMP, and vote on Exempted Fishing Permit (EFP) Applications, if any.

The Council will receive updates from the South Atlantic Fishery Management Council, Gulf States Marine Fisheries Commission, U.S. Coast Guard, U.S. Fish and Wildlife Service, and the Department of State. Lastly, the Council will discuss any other business.

—Meeting Adjourns.

You may listen in to the June 2017 Council Meeting via webinar by registering on: https://attendee.gotowebinar.com/register/8601999915509219074. After registering, you will receive a confirmation email containing information about joining the webinar.

The timing and order in which agenda items are addressed may change as required to effectively address the issue. The latest version will be posted on the Council's file server, which can be accessed by going to the Council's Web site at http://www.gulfcouncil.org and clicking on FTP Server under Quick Links. For meeting materials, select the “Briefing Books/Briefing Book 2017-06” folder on Gulf Council file server. The username and password are both “gulfguest”. The meetings will be webcast over the internet. A link to the webcast will be available on the Council's Web site, http://www.gulfcouncil.org.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Kathy Pereira (see ADDRESSES) at least 5 days prior to the meeting date.

Dated: May 15, 2017.
Tracey L. Thompson,
Acting Deputy Director, Office of Sustainable Fisheries, National Marine Fisheries Service.

[FR Doc. 2017-10041 Filed 5-17-17; 8:45 am]

BILLING CODE 3510-22-P